DEPARTMENT OF TRANSPORTATION

Federal Transit Administration

Fiscal Year 2014 Bus Ladders of Opportunity Initiative Grant Program Project Selections

AGENCY: Federal Transit Administration; FTA, DOT.

ACTION: Bus Ladders of Opportunity Initiative announcement of project selections.

SUMMARY: The U.S. Department of Transportation's (DOT) Federal Transit Administration (FTA) announces the selection of projects with prior year Section 5309 Bus and Bus Facilities funds authorized by the Safe, Accountable, Flexible, Efficient Transportation Equity Act: A Legacy for Users (SAFETEA-LU, Pub. L. 109-59) and prior authorizations for the Bus and Bus Facilities Program (Ladders of Opportunity Initiative). The amount available to projects is $100 million. On August 4, 2014, FTA published a Notice of Funding Availability (NOFA) (79 FR 32358) announcing the availability of funding for this program. These program dollars will provide financial assistance to purchase, replace, or rehabilitate buses, bus facilities, and bus-related equipment, and other eligible capital project costs.

FOR FURTHER INFORMATION CONTACT: Successful applicants should contact the appropriate FTA Regional Office for information regarding applying for the funds or program-specific information. A list of Regional Offices can be found at www.fta.dot.gov. A TDD is available at 1-800-877-8339 (TDD/FIRS).

SUPPLEMENTARY INFORMATION: In response to the NOFA, FTA received 282 proposals for 446 projects from 49 States plus the District of Columbia, Mariana Islands and Puerto Rico requesting $1.4 billion in Federal funds. FTA evaluated project proposals based on each applicant's responsiveness to the program evaluation criteria as detailed in the NOFA. FTA is funding 24 projects as shown in Table 1 for a total of $100 million.

Successful applicants selected for competitive discretionary funding should work with their FTA Regional Office to finalize the grant application in FTA's Transportation Electronic Awards Management System (TEAM) so that funds can be obligated expeditiously. Grant applications must only include eligible activities applied for in the original project application. Funds must be used consistent with the competitive proposal and for the eligible purposes established in the NOFA and described in FTA Circulars 5010 and 9300.1B. In cases where the allocation amount is less than the proposer's requested amount, grantees should work with the Regional Office to reduce scope or scale the project such that a complete phase or project is accomplished. Grantees are reminded that program requirements such as cost sharing or local match can be found in the NOFA. A discretionary project identification number has been assigned to each project for tracking purposes and must be used in the TEAM application. Selected projects are eligible for pre-award authority no earlier than September 25, 2014. Pre-award authority is also contingent upon Federal requirements, such as planning and environmental requirements, having been met. For more about FTA's policy on pre-award authority, please see the FTA Fiscal Year 2014 Apportionments, Allocations, and Program notice found in 77 FR 13461 (March 10, 2014). Post-award reporting requirements include submission of the Federal Financial Report and Milestone reports in TEAM as appropriate (see FTA Circulars 5010.1D and 9030.1E). Grantees must comply with all applicable Federal statutes, regulations, executive orders, FTA circulars, and other Federal requirements in carrying out the project supported by the FTA grant.

FTA emphasizes that grantees must follow all third-party procurement guidance, as described in FTA Circular 4220.1F. Funds allocated in this announcement must be obligated in a grant by September 30, 2017.

Due to the volume of unfunded project proposals, FTA is unable to conduct individual debriefs with unsuccessful applicants. FTA can, however offer the following feedback to strengthen proposals when responding to other future discretionary opportunities:

• Submit new and carefully conceived proposals that directly reflect the requirements contained in the Notice of Funding Availability (NOFA).

• Contact FTA staff, regional and Headquarters, to discuss eligibility of your project before submitting the proposal.

• Address, clearly and thoroughly, all of the criteria outlined in the NOFA, to include why the investment it is needed and how it will meet the need, and accomplish or meet the intent of the program/opportunity to which you are applying.

• If a project is scalable, include both the scalable amount and an explanation of what can/will be funded with the scalable amount and how the benefits of the project may be scaled as a result of lesser funding.

• Ensure supporting documentation and attachments are clearly referenced in the application, and that they are relevant for the criteria.

• Ensure that qualitative and quantitative data provided in response to the criteria is project specific or specific to the targeted service area.

• Check numbers for the local match and ensure the budget shows the required match or accounts for the use of in-kind match that is equal to or more than the required local share.

Therese W. McMillan,
Acting Administrator.

Table I—FY 2014 Bus Ladders of Opportunity Initiative Project Selections
State | Recipient | Project ID | Project description | Allocation
AK | State of Alaska Department of Transportation and Public Facilities | D2014-BUSP-00001 | Bus Shelters | $82,318
CA | Los Angeles County Metropolitan Transportation Authority | D2014-BUSP-00002 | Bus Stop Improvements | 1,668,557
CA | San Diego Metropolitan Transit System | D2014-BUSP-03001 | Bus Replacements | 18,054,003
CA | San Francisco Municipal Transportation Agency | D2014-BUSP-00003 | Buses for Service Expansion | 8,995,226
CO | Mesa County | D2014-BUSP-00004 | Bus Replacements | 432,000
CO | Regional Transportation District | D2014-BUSP-03002 | Priority Signalization & Service Enhancement | 4,999,000
FL | Central Florida Regional Transportation Authority (LYNX) | D2014-BUSP-97001 D2014-BUSP-04001 | Bus Transfer Center; Compressed Natural Gas Articulated Buses | 1,000,000; 8,390,860
IA | Ames Transit Agency | D2014-BUSP-04002 | Buses for Expansion of Service | 2,550,000
IL | Bloomington-Normal Public Transit System (Connect Transit) | D2014-BUSP-10001 | Bus Replacements | 2,040,000
IL | Springfield Mass Transit District (SMTD) | D2014-BUSP-06001 | Expanded Bus Service (Bus Purchase) | 762,400
KS | Sac and Fox Nation of Missouri | D2014-BUSP-06002 | Vans for New Service | 66,308
KY | Transit Authority of River City | D2014-BUSP-06003 | Replacement Buses | 8,700,000
MI | City of Detroit Department of Transportation | D2014-BUSP-05001 ($20,325,548); D2014-BUSP-01001 ($5,600,000) | Replacement Buses | 25,925,548
MN | Metropolitan Council—Metro Transit | D2014-BUSP-07001 | Bus Stop Improvements | 3,260,000
MO | Kansas City Area Transportation Authority | D2014-BUSP-07002 | Transit Access Improvements | 1,200,000
NE | City of Lincoln, Nebraska | D2014-BUSP-02003 | Replacement Buses | 2,014,496
OK | Oklahoma Department of Transportation | D2014-BUSP-07003 | Replacement Buses | 4,082,400
OR | Douglas County—Oregon Department of Transportation | D2014-BUSP-07004 | Replacement Buses | 576,000
OR | Lake County—Oregon Department of Transportation | D2014-BUSP-11001 | ADA vans to expand service | 105,400
OR | Lane Transit District (Eugene) | D2014-BUSP-98001 | Paratransit Vehicle Replacement and Security Camera Expansion | 1,064,145
TX | Fort Worth Transportation Authority | D2014-BUSP-99001 | Replacement Buses | 1,162,078
TX | Texarkana Urban Transit District | D2014-BUSP-99002 | Replacement Buses | 1,200,000
WA | Muckleshoot Indian Tribe | D2014-BUSP-02001 | Buses for New Service | 194,262
WA | Washington State Department of Transportation | D2014-BUSP-02002 | Transit Facility | 1,474,999

[FR Doc. 2014-25518 Filed 10-24-14; 8:45 am]

BILLING CODE 4910-57-P